DEPARTMENT OF AGRICULTURE

Submission for OMB Review; Comment Request

May 28, 2019.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 1, 2019 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Restricted, Prohibited, and Controlled Importation of Animal and Poultry Products and Byproducts, Into the United States.

OMB Control Number: 0579-0015.

Summary of Collection: The Animal Health Protection Act (AHPA) of 2002 is the primary Federal law governing the protection of animal health. The law gives the Secretary of Agriculture broad authority to detect, control, or eradicate pests or diseases of livestock or poultry. Disease prevention is the most effective method for maintaining a healthy animal population and enhancing the Animal and Plant Health Inspection Service (APHIS) ability to compete in the world market of animals and animal products trade. In connection with this mission, APHIS enforces regulations regarding both the importation of controlled materials and the prevention of foreign animal disease incursions into the United States. The regulations under which APHIS conducts these disease prevention activities are contained in Title 9, Chapter 1, Subchapter D, Parts 94, 95, and 122 of the Code of Federal Regulations.

Need and Use of the Information: APHIS will collect information to ensure that imported items do not present a disease risk to the livestock and poultry populations of the United States. The information collected will provide APHIS with critical information concerning the origin and history of the items destined for importation into the United States. Without the information, the United States would be at increase risk of an exotic disease incursion.

Description of Respondents: Business or other for-profit; Not for-profit institutions; Foreign Government.

Number of Respondents: 3,437.

Frequency of Responses: Recordkeeping; Reporting; On occasion; Quarterly.

Total Burden Hours: 427,734.

Animal Plant and Health Inspection Service

Title: Cooperative State-Federal Brucellosis Eradication Program.

OMB Control Number: 0579-0047.

Summary of Collection: The Animal Health Protection Act (AHPA) of 2002 is the primary Federal law governing the protection of animal health. The AHPA is contained in Title X, Subtitle E, Sections 10401-18 of Public Law 107-171, May 13 2002, the Farm Security and Rural Investment Act of 2002. Disease prevention and disease surveillance are the most effective methods for maintaining a healthy animal population and for enhancing the United States' ability to compete in the world market of animal and animal product trade. The Veterinary Services (VS) unit of the USDA's Animal and Plant Health Inspection Service (APHIS) is responsible for administering regulations intended to protect the health of the U.S. livestock population. Brucellosis is an infectious disease of animals and humans caused by bacteria of the genus Brucella. The continued presence of brucellosis in a herd seriously threatens the health, welfare, and economic viability of the livestock industry. There is no economically feasible treatment for brucellosis in livestock. The Cooperative State-Federal Brucellosis Eradication Program is a national program to eliminate this serious disease of livestock. APHIS will collect information using various forms and methods.

Need and use of the Information: APHIS will use the information collected via various forms and methods to demonstrate that program requirements are being met for State and herd status and to demonstrate that program-allowed activities, such as testing vaccinating, and movement, are being conducted in accordance with the regulations and program rules. Without the information, APHIS would not be able to conduct an effective brucellosis surveillance, control, and eradication program.

Description of Respondents: Business; State, Local or Tribal Government.

Number of Respondents: 99,481.

Frequency of Responses: Recordkeeping; Reporting: On occasion; Quarterly; Monthly.

Total Burden Hours: 247,321.

Animal and Plant Health Inspection Service

Title: Federal Plant Pest and Noxious Weed Regulations.

OMB Control Number: 0579-0054.

Summary of Collection: In accordance with Section 412 of the Plant Protection Act (Title IV, Pub L. 106-224, 114 Stat. 438, 7 U.S.C. 7712), the Secretary of Agriculture is authorized to prohibit or restrict the importation, entry, exportation, or interstate movement of plants, plant products, biological control organisms, noxious weeds, soil, regulated garbage, or means of conveyance, if the Secretary determines that the prohibition or restriction is necessary to prevent the dissemination of plant pests or disease within the United States. The associated regulations that were issued by the Animal and Plant Health Inspection Service (APHIS) are located in 7 CFR parts 330 and 360.

Need and use of the Information: APHIS will use information collection activities in these regulations to evaluate and mitigate the risks associated with the import or interstate movement of plant pests, noxious weeds, soil, prohibited articles, and regulated garbage. These activities include applications for permits and compliance agreements, amendments and appeals, consultations, site assessments, inspections, certifications, labeling of containers, and recordkeeping.

Description of Respondent: State, Local or Tribal Government; Business or Other For-Profit; Individuals or Households.

Number of Respondents: 4,833.

Frequency of Responses: Reporting; Recordkeeping; Third-Party Disclosure.

Total Burden Hours: 21,394.

Animal and Plant Health Inspection Service

Title: Agriculture Select Agent Services; Import and Transport Permits for Non-Select Materials.

OMB Control Number: 0579-0213.

Summary of Collection: The Animal Health Protection Act of 2002 (the Act, 7 U.S.C. 8301 et seq.) authorizes the U.S. Department of Agriculture (USDA) to provide for the oversight of the importation, entry, and movement in the United States of animals, pests or diseases, or any material or tangible object that could harbor them. Under the Act, USDA regulates certain organisms, biological agents, toxins, vectors, and animal products that have the potential to pose a severe threat to animal health or to animal products through the risk of disease or pest introduction. The Animal and Plant Health Inspection Service (APHIS) has the primary responsibility for implementing the provisions of the Act within USDA. APHIS regulations for these activities are contained in 9 CFR part 94 (animals or animal products), 9 CFR part 95 (animal by-products) and 9 CFR part 122 (organisms and vectors). The regulations require an individual or entity, unless specifically exempted under the regulations, to apply for and be granted, by APHIS, a permit authorizing specific import or transport activities for regulated materials prior to engaging in the activities.

Need and use of the Information: The permit application process entails the use of forms designed to obtain critical information concerning individuals or entities seeking a permit, as well as the specific characteristics of the material to be permitted. This data is needed, in part, to allow APHIS to assess the risk of importing or transporting the material, as well as the biosecurity and biosafety mitigations in place at the receiving location. This, in turn, enables APHIS to ensure that appropriate safeguard, containment, and disposal requirements commensurate with the risk of the materials are implemented during transport, import, and upon receipt to protect against the spread or introduction of disease.

Description of Respondents: Private Sector.

Number of Respondents: 3,214.

Frequency of Response: Reporting.

Total Burden Hours: 6,055.

Animal and Plant Health Inspection Service

Title: National Animal Health Reporting System (NAHRS).

OMB Control Number: 0579-0299.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if necessary to prevent the spread of any livestock or poultry pest or disease. The AHPA is contained in Title X, Subtitle E, Sections 10401-18 of Public Law 107-171, May 13, 2002, of the Farm Security and Rural Investment Act of 2002. Disease prevention is the most effective method for maintaining a healthy animal population and enhancing the U.S. Department of Agriculture's Animal and Plant Health Inspection Service (APHIS), Veterinary Services' (VS) ability to allow U.S. animal producers to compete in the world market of animal and animal product trade. In connection with this mission, APHIS operates NAHRS, which collects, on a national basis, data on the prevalence of important livestock and poultry diseases within the United States.

Need and use of the Information: The NAHRS collects data monthly from State veterinarians on the presence or absence of specific diseases of interest to the World Organization for Animal Health (Office International des Epizooties) (OIE). As a member country of the OIE, the United States is required to submit reports on the status of certain diseases notifiable to the OIE. Reportable diseases are diseases that have the potential for rapid spread, irrespective of national borders, that are of serious socio-economic or public health consequence and that are of major importance in the international trade of animals and animal products. The potential benefits to trade as a result of the NAHRS include accurate reporting on the health status of the U.S. livestock industry, improved and expanded animal disease reporting infrastructure, expansion of livestock industries into new export markets, and preservation of existing markets through increased confidence in quality and disease freedom of U.S. livestock. This data collection is unique in terms of the type, quantity, and frequency of data; no other entity is collecting and reporting this type of data on the health status of U.S. livestock to the OIE.

Description of Respondents: State, Local, or Tribal Government.

Number of Respondents: 52.

Frequency of Responses: Reporting.

Total Burden Hours: 4,992.

Animal and Plant Health Inspection Service

Title: APHIS Student Outreach Program.

OMB Control Number: 0579-0362.

Summary of Collection: Title VI of the Civil Rights Act of 1964—Nondiscrimination in Federally Assisted programs, established Special emphasis Programs throughout the Federal Government. The Animal and Plant Health Inspection Service's (APHIS') Student Outreach Program is designed to help students learn about careers in animal science, veterinary medicine, plant pathology, and agribusiness. The program allows participants to live on college campuses and learn about agricultural science and agribusiness from university professors, practicing veterinarians, and professionals working for the U.S. Government.

The Student Outreach Program is designed to enrich students' lives while they are still in their formative years. APHIS' investment in the Student Outreach Program not only exposes students to careers in APHIS, it also gives APHIS' employees the opportunity to meet and invest in APHIS' future workforce. Students chosen to participate in the Student Outreach Program will gain experience through hands-on labs, workshops, and field trips. Students will also participate in character and teambuilding activities and diversity workshops. Two programs currently in the Student Outreach Program are AgDiscovery and Safeguarding Natural Heritage Program: Strengthening Navajo Youth Connections to the Land.

Need and Use of the Information: To participate in these programs, applicants (students) must submit essays, letters of recommendation, and application packages. These applications are reviewed and rated by officials to select the program participants. In addition, cooperative agreements are used to facilitate the partnerships between APHIS and the participating universities to carry out these programs.

Description of Respondents: Individuals or households and public and private universities.

Number of Respondents: 1,126.

Frequency of Responses: Reporting.

Total Burden Hours: 6,330.

Ruth Brown,
Departmental Information Collection Clearance Officer.

[FR Doc. 2019-11372 Filed 5-30-19; 8:45 am]

BILLING CODE 3410-34-P